DEPARTMENT OF TRANSPORTATION

Federal Aviation Administration

14 CFR Part 39

[Docket No. 99-CE-79-AD]

RIN 2120-AA64

Airworthiness Directives; Raytheon Aircraft Company Beech Models A36, B36TC, and 58 Airplanes

AGENCY: Federal Aviation Administration, DOT.

ACTION: Notice of proposed rulemaking (NPRM).

SUMMARY: This document proposes to adopt a new airworthiness directive (AD) that would apply to certain Raytheon Aircraft Company (Raytheon) Beech Models A36, B36TC, and 58 airplanes. The proposed AD would require you to inspect for missing rivets on the right hand side of the fuselage and, if necessary, install rivets. Raytheon has identified several instances of missing rivets on these airplanes. The actions specified by this proposed AD are intended to install missing rivets in the right hand fuselage panel assembly in the area above the right wing and below the cabin door threshold. These rivets must be present for the fuselage to carry the ultimate load and prevent critical structural failure with loss of airplane control.

DATES: The Federal Aviation Administration (FAA) must receive any comments on this proposed rule by October 30, 2000.

ADDRESSES: Send comments in triplicate to the Federal Aviation Administration (FAA), Central Region, Office of the Regional Counsel, Attention: Rules Docket No. 99-CE-79-AD, 901 Locust, Room 506, Kansas City, Missouri 64106. You may look at comments at this location between 8 a.m. and 4 p.m., Monday through Friday, except holidays.

You may get the service information referenced in the proposed AD from Raytheon Aircraft Company, P.O. Box 85, Wichita, Kansas 67201-0085; telephone: (800) 429-5372 or (316) 676-3140. You may read this information at the Rules Docket at the address above.

FOR FURTHER INFORMATION CONTACT: T.N. Baktha, Aerospace Engineer, FAA, Wichita Aircraft Certification Office, 1801 Airport Road, Mid-Continent Airport, Wichita, Kansas 67209; telephone: (316) 946-4155; facsimile: (316) 946-4407.

SUPPLEMENTARY INFORMATION:

Comments Invited

How do I comment on this proposed AD? We invite your comments on the proposed rule. You may send whatever written data, views, or arguments you choose. You need to include the rule's docket number and send your comments in triplicate to the address mentioned under the caption ADDRESSES. We will consider all comments received by the closing date mentioned above, before acting on the proposed rule. We may change the proposals contained in this notice because of the comments received.

Are there any specific portions of the proposed AD I should pay attention to? The FAA specifically invites comments on the overall regulatory, economic, environmental, and energy aspects of the proposed rule that might call for a need to change the proposed rule. You may examine all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/. Q P='03'>

How can I be sure FAA receives my comment?

If you want to know that we received your comments, you must include a self-addressed, stamped postcard. On the postcard, write “Comments to Docket No. 99-CE-79-AD.” We will date stamp and mail the postcard back to you.

Discussion

What events have caused this proposed AD? Raytheon has identified several instances of missing rivets on these airplanes:

Model | Serial No.
Model A36 Bonanza | Serials E-1 through E-3231; and E-3233.
Model B36TC Bonanza | Serials EA-1 through EA-635.
Model 58 Baron | Serials TH-1 through TH-1811; and TH-1813 through TH-1897.

Raytheon production and inspection personnel identified the missing rivets. The missing rivets are the result of a quality control problem.

What are the consequences if the condition is not corrected? This condition results in the airplane being unable to carry the ultimate load.

Relevant Service Information

What service information applies to this subject? Raytheon has issued Mandatory Service Bulletin SB 53-3341, revised: May 2000.

What are the provisions of this service bulletin? The service bulletin describes procedures for inspecting for missing rivets and installing rivets in the lower right hand fuselage panel assembly in the area above the right wing and below the cabin door threshold.

The FAA's Determination and an Explanation of the Provisions of the Proposed AD

What has FAA decided? After examining the circumstances and reviewing all available information related to the incidents, we have determined that:

• The unsafe condition referenced in this document exists or could develop on other Raytheon Beech Models A36, B36TC, and 58 airplanes of the same type design;

• These airplanes should have the actions specified in the above service bulletin incorporated; and

• The FAA should take AD action to correct this unsafe condition.

What does this proposed AD require? This proposed AD would require you to:

• Inspect for missing rivets on the right hand fuselage; and

• If necessary, install rivets.

What are the differences between the service bulletin and the proposed AD?

Raytheon requires you to inspect for missing rivets and, if necessary, install rivets, as soon as possible after receipt of the Service Bulletin, but no later than the next scheduled 100 hour or annual inspection. We propose a requirement that you inspect and, if necessary, install the missing rivets within the next 100 hours time-in-service (TIS) after the effective date of the proposed AD. We believe that 100 hours TIS will give the owners/operators of the affected airplanes enough time to have the proposed actions done without compromising the safety of the airplanes.

Cost Impact

How many airplanes does this proposed AD impact? We estimate the proposed AD would affect 452 airplanes in the U.S. registry.

What is the cost impact of the proposed action for the affected airplanes on the U.S. Register? We estimate that it would take about 1 workhour for each proposed inspection, at an average labor rate of $60 an hour. Based on the cost factors presented above, we estimate that the total cost impact of the proposed inspection on U.S. operators is $27,120, or $60 per airplane.

We estimate that it would take 4 workhours to install the rivets. The cost of parts is about $100. Based on the cost factors presented above, we estimate that the total cost impact of replacing the rivets on U.S. operators is $340 per airplane.

The manufacturer will allow warranty credit for labor and parts to the extent noted in the service bulletin.

Regulatory Impact

Does this proposed AD impact relations between Federal and State governments? The proposed regulations would not have substantial direct effects on the States, on the relationship between the national government and the States, or on the distribution of power and responsibilities among the various levels of government. We have determined that this proposed rule would not have federalism implications under Executive Order 13132.

Does this proposed AD involve a significant rule or regulatory action? For the reasons discussed above, I certify that this action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may obtain a copy of it by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Raytheon Aircraft Company: Docket No. 99-CE-79-AD.

(a) What airplanes are affected by this AD? This AD affects the following airplanes, certificated in any category:

Model | Serial No.
Model A36 | Serials E-1 through E-3231; and E-3233.
Model B36TC | Serials EA-1 through EA-635.
Model 58 | Serials TH-1 through TH-1811; and TH-1813 through TH-1897.

(b) Who must comply with this AD? Anyone who wishes to operate any of the above airplanes on the U.S. Register must comply with this AD.

(c) What problem does this AD address? The actions specified by this AD are intended to install missing rivets in the right hand fuselage panel assembly in the area above the right wing and below the cabin door threshold. These rivets must be present for the fuselage to carry the ultimate load and prevent critical structural failure with loss of control of the airplane.

(d) What must I do to address this problem? To address this problem, you must do the following actions:

Actions | Compliance times | Procedures
(1) Inspect for up to 9 missing rivets between fuselage station (F.S.) 83.00 and F.S. 91.00 at water line (W.L.) 90.3 | Inspect within the next 100 hours time-in-service after the effective date of this AD | Do this inspection in accordance with the ACCOMPLISHMENT INSTRUCTIONS paragraph of Raytheon Mandatory Service Bulletin SB 53-3341, Revision 1, Revised: May 2000, and the Bonanza Series Maintenance Manual or Baron Model 58 Series Maintenance Manual.
(2) If you find rivets are missing, install these rivets | Before further flight after the inspection | Do these actions in accordance with the ACCOMPLISHMENT INSTRUCTIONS paragraph of Raytheon Mandatory Service Bulletin SB 53-3341, Revision 1, Revised: May 2000, and the Bonanza Series Maintenance Manual or Baron Model 58 Series Maintenance Manual.

(e) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? Contact T.N. Baktha, Aerospace Engineer, FAA, Wichita Aircraft Certification Office, 1801 Airport Road, Mid-Continent Airport, Wichita, Kansas 67209; telephone: (316) 946-4155; facsimile: (316) 946-4407.

(g) What if I need to fly the airplane to another location to comply with this AD? The FAA can issue a special flight permit under sections 21.197 and 21.199 of the Federal Aviation Regulations (14 CFR 21.197 and 21.199) to operate your airplane to a location where you can do the requirements of this AD.

(h) How do I get copies of the documents referenced in this AD? You may get the service information referenced in the AD from Raytheon Aircraft Company, P.O. Box 85, Wichita, Kansas 67201-0085; telephone: (800) 429-5372 or (316) 676-3140. You may read this document at FAA, Central Region, Office of the Regional Counsel, 901 Locust, Room 506, Kansas City, Missouri 64106.

Issued in Kansas City, Missouri, on September 19, 2000.
Michael Gallagher,
Manager, Small Airplane Directorate, Aircraft Certification Service.

[FR Doc. 00-24628 Filed 9-25-00; 8:45 am]

BILLING CODE 4910-13-P